DEPARTMENT OF HEALTH AND HUMAN SERVICES

Centers for Medicare & Medicaid Services

42 CFR Parts 410, 411, 413, 424, and 489

[CMS-1163-CN]

RIN 0938-AK47

Medicare Program; Prospective Payment System and Consolidated Billing for Skilled Nursing Facilities; Correction

AGENCY: Centers for Medicare & Medicaid Services (CMS), HHS.

ACTION: Final rule; correction.

SUMMARY: This document corrects technical errors that appeared in the final rule published in the Federal Register on July 31, 2001 entitled “Medicare Program; Prospective Payment System and Consolidated Billing for Skilled Nursing Facilities—Update”.

EFFECTIVE DATE: This correction is effective October 1, 2001, except for certain wage index corrections that are effective December 1, 2001.

FOR FURTHER INFORMATION CONTACT: Bill Ullman, (410) 786-5667.

SUPPLEMENTARY INFORMATION: In the July 31, 2001 final rule entitled “Prospective Payment System and Consolidated Billing for Skilled Nursing Facilities—Update” (66 FR 39562), there were several technical errors in the preamble involving the SNF PPS wage index values. Accordingly, we are correcting several SNF PPS wage index values as published in Table 7.

Specifically, effective October 1, 2001, the wage index value for the Albuquerque, NM Metropolitan Statistical Area (MSA) (area 0200) is corrected from 0.9750 to 0.9759, and the wage index value for the Killeen-Temple, TX MSA (area 3810) is corrected from 0.7292 to 0.7940.

In addition, effective December 1, 2001, the wage index value for the Boston, MA MSA (area 1123) is corrected from 1.1289 to 1.1378, the wage index value for the Savannah, GA MSA (area 7520) is corrected from 0.9243 to 1.0018, and the wage index value for the Killeen-Temple, TX MSA (area 3810) is corrected again from 0.7940 (as corrected in the previous paragraph) to 0.8471.

In accordance with our longstanding policies, these technical and tabulation errors are being corrected prospectively, effective on the dates noted above. This correction notice conforms the published SNF PPS wage index values to the prospectively revised values and does not represent any changes to the policies set forth in the final rule.

The corrections appear in this document under the heading “Correction of Errors”. The provisions in this correction notice are effective as if they had been included in the document published in the Federal Register on July 31, 2001, except for those wage index corrections that we specifically noted to be effective December 1, 2001.

Waiver of Proposed Rulemaking

We ordinarily publish a notice of proposed rulemaking in the Federal Register to provide a period for public comment before provisions of a notice such as this take effect. We can waive this procedure, however, if we find good cause that a notice and comment procedure is impracticable, unnecessary, or contrary to the public interest and incorporate a statement of the finding and its reasons in the notice issued.

We find it unnecessary to undertake notice and comment rulemaking because this notice merely provides technical corrections to the regulations and does not make any substantive changes to the regulations. Therefore, for good cause, we waive notice and comment procedures.

Correction of Errors

In FR Doc. 01-18869 of July 31, 2001 (66 FR 39562), we are making the following corrections:

Corrections to Preamble

1. On page 39572, in column 3 of Table 7, “Wage Index for Urban Areas”, the entry of “0.9750” for the Albuquerque, NM MSA (area 0200) is revised to read “0.9759”.

2. On page 39573, in column 2 of Table 7, “Wage Index for Urban Areas”, the entry of “1.1289” for Boston, MA MSA (area 1123) is revised by adding “1.1378 (effective December 1, 2001)”.

3. On page 39575, in column 3 of Table 7, “Wage Index for Urban Areas”, the entry of “0.7292” for the Killeen-Temple, TX MSA (area 3810) is revised to read “0.7940” and by adding “0.8471 (effective December 1, 2001)”.

4. On page 39578, in column 1 of Table 7, “Wage Index for Urban Areas”, the entry of “0.9243” for the Savannah, GA MSA (area 7520) is revised by adding “1.0018 (effective December 1, 2001)”.

(Authority: Section 1888 of the Social Security Act (42 U.S.C. 1395yy))

(Catalog of Federal Domestic Assistance Program No. 93-773, Medicare—Hospital Insurance; and Program No. 93.774, Medicare—Supplementary Medical Insurance Program)

Dated: March 14, 2002.
Dennis Williams,
Acting, Deputy Assistant Secretary for Information Resources Management.

[FR Doc. 02-6757 Filed 3-21-02; 8:45 am]

BILLING CODE 4120-01-P